NUCLEAR REGULATORY COMMISSION

[NRC-2016-0001]

Sunshine Act Meeting Notice

DATE: May 23, 2016.

PLACE: Commissioners' Conference Room, 11555 Rockville Pike, Rockville, Maryland.

STATUS: Public.

Week of May 30, 2016

Thursday, June 2, 2016

8:55 a.m. Affirmation Session (Public Meeting) (Tentative)

a. Pacific Gas & Electric Co. (Diablo Canyon Nuclear Power Plant, Units 1 and 2); Appeal of LBP-15-27 (Tentative)

b. Entergy Nuclear Operations, Inc. (Indian Point Nuclear Generating Units 2 and 3)—Petitions for Review of LBP-11-17 and LBP-10-13 (Tentative)

This meeting will be webcast live at the Web address— http://www.nrc.gov/.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: May 23, 2016.
Denise L. McGovern,
Policy Coordinator, Office of the Secretary.

[FR Doc. 2016-12465 Filed 5-23-16; 4:15 pm]

BILLING CODE 7590-01-P